ENVIRONMENTAL PROTECTION AGENCY

40 CFR Part 52

[EPA-R07-OAR-2019-0468; FRL-9998-40-Region 7]

Air Plan Approval; Iowa; Revisions to Regional Haze Plan and Visibility Requirements in Infrastructure State Implementation Plans for the 2006 PM2.5, 2012 PM2.5, 2010 NO2, 2010 SO2, 2008 Ozone, and 2015 Ozone NAAQS

AGENCY: Environmental Protection Agency (EPA).

ACTION: Proposed rule.

SUMMARY: The Environmental Protection Agency (EPA) is proposing to approve Iowa's request on four actions regarding the Iowa State Implementation Plan (SIP). The four SIP actions relate to Iowa's Regional Haze Plan and infrastructure SIPs for the 2006 Fine Particulate Matter (PM2.5), 2012 PM2.5, 2010 Nitrogen Dioxide (NO2), 2010 Sulfur Dioxide (SO2), 2008 Ozone, and 2015 Ozone National Ambient Air Quality Standards (NAAQS).

DATES: Comments must be received on or before September 23, 2019.

ADDRESSES: You may send comments, identified by Docket ID No. EPA-R07-OAR-2019-0468 to https://www.regulations.gov. Follow the online instructions for submitting comments.

Instructions: All submissions received must include the Docket ID No. for this rulemaking. Comments received will be posted without change to https://www.regulations.gov/, including any personal information provided. For detailed instructions on sending comments and additional information on the rulemaking process, see the “Written Comments” heading of the SUPPLEMENTARY INFORMATION section of this document.

FOR FURTHER INFORMATION CONTACT: Jed D. Wolkins, Environmental Protection Agency, Region 7 Office, Air Quality Planning Branch, 11201 Renner Boulevard, Lenexa, Kansas 66219 at telephone number (913) 551-7588; email address wolkins.jed@epa.gov.

SUPPLEMENTARY INFORMATION: Throughout this document “we,” “us,” and “our” refer to EPA.

Table of Contents

I. Written Comments

II. What is being addressed in this document?

A. Regional Haze SIPs and Their Relationship With CAIR and CSAPR

B. Infrastructure SIPs

C. What are the prong 4 requirements?

D. What is the EPA's analysis of how Iowa addressed prong 4 and regional haze?

III. Have the requirements for approval of a SIP revision been met?

IV. What action is the the EPA taking?

V. Statutory and Executive Order Reviews

I. Written Comments

Submit your comments, identified by Docket ID No. EPA-R07-OAR-2019-0468, at https://www.regulations.gov. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e. on the web, cloud, or other file sharing system). For additional submission methods, the full EPA public comment policy, information about CBI or multimedia submissions, and general guidance on making effective comments, please visit https://www.epa.gov/dockets/commenting-epa-dockets.

II. What is being addressed in this document?

On May 14, 2019, the State of Iowa submitted a request to revise the State of Iowa's Regional Haze Plan, changing from reliance on the Clean Air Interstate Rule (CAIR) to reliance on the Cross State Air Pollution Rule (CSAPR) for certain regional haze requirements; removing EPA's Federal Implementation Plan (FIP) for reliance on CSAPR for certain regional haze requirements, converting EPA's limited approval/limited disapproval of Iowa's Regional Haze Plan for the first regional haze planning period to a full approval; and approving the states' submissions addressing the Clean Air Act (CAA or the Act) section 110(a)(2)(D)(i)(II) provision (prong 4) that prohibits emissions activity in one state from interfering with measures to protect visibility in another state of Iowa's infrastructure SIP submittals for the 2006 PM2.5, 2012 PM2.5, 2010 NO2, 2010 SO2, 2008 Ozone, and 2015 Ozone NAAQS. The EPA is proposing approve these requests.

A. Regional Haze SIPs and Their Relationship With CAIR and CSAPR

Section 169A(b)(2)(A) of the CAA requires states to submit Regional Haze SIPs that contain such measures as may be necessary to make reasonable progress towards the natural visibility goal at Class I areas, including a requirement that certain categories of existing major stationary sources built between 1962 and 1977 procure, install, and operate Best Available Retrofit Technology (BART) as determined by the state. Under the Regional Haze Rule (RHR), adopted in 1999, states are directed to conduct BART determinations for such “BART-eligible” sources that may be anticipated to cause or contribute to visibility impairment in a Class I area.¹ Rather than requiring source-specific BART controls, states also have the flexibility to adopt an emissions trading program or other alternative program as long as the alternative provides greater reasonable progress towards improving visibility than BART.² The EPA provided states with this flexibility in the 1999 RHR, and further refined the criteria for assessing whether an alternative program provides for greater reasonable progress in two subsequent rulemakings.³

¹ See 64 FR 35714 (July 1, 1999).

² See 40 CFR 51.308(e)(2).

³ See 70 FR 39104 (July 6, 2005) and 71 FR 60612 (October 13, 2006).

The EPA demonstrated that CAIR would achieve greater reasonable progress than BART in revisions to the RHR made in 2005.⁴ In those revisions, the EPA amended its regulations to provide that states participating in the CAIR cap-and-trade programs pursuant to an EPA-approved CAIR SIP or states that remain subject to a CAIR FIP need not require affected BART-eligible electric generating units (EGUs) to install, operate, and maintain BART for emissions of SO2 and nitrogen oxides (NOX). As a result of the EPA's determination that CAIR was “better-than-BART,” a number of states in the CAIR region, including Iowa, relied on the CAIR cap-and-trade programs as an alternative to BART for EGU emissions of SO2 and NOX in designing their Regional Haze SIPs. These states also relied on CAIR as an element of a long-term strategy (LTS) for achieving reasonable progress. However, in 2008, the United States Court of Appeals for the District of Columbia Circuit (D.C. Circuit) remanded CAIR to the EPA, which it did without vacatur to preserve the environmental benefits provided by CAIR.⁵ On August 8, 2011, acting on the D.C. Circuit's remand, the EPA promulgated CSAPR to replace CAIR and issued FIPs to implement the rule in CSAPR-subject states.⁶ Implementation of CSAPR was scheduled to begin on January 1, 2012, when CSAPR would have superseded the CAIR program.

⁴ CAIR created regional cap-and-trade programs to reduce SO2 and NOX emissions in 27 eastern states (and the District of Columbia), including Iowa, that contributed to downwind nonattainment or interfered with maintenance of the 1997 8-hour ozone NAAQS or the 1997 PM2.5 NAAQS. See 70 FR 39104 (July 6, 2005).

⁵ North Carolina v. EPA, 550 F.3d 1176, 1178 (D.C. Cir. 2008).

⁶ CSAPR requires 28 eastern states to limit their statewide emissions of SO2 and/or NOX in order to mitigate transported air pollution unlawfully impacting other states' ability to attain or maintain four NAAQS: the 1997 ozone NAAQS, the 1997 annual PM2.5 NAAQS, the 2006 24-hour PM2.5 NAAQS, and the 2008 8-hour ozone NAAQS. The CSAPR emissions limitations are defined in terms of maximum statewide “budgets” for emissions of annual SO2, annual NOX, and/or ozone-season NOX by each covered state's large EGUs. The CSAPR state budgets are implemented in two phases of generally increasing stringency, with the Phase 1 budgets applying to emissions in 2015 and 2016 and the Phase 2 budgets applying to emissions in 2017 and later years. See 76 FR 48208 (August 8, 2011).

Due to the D.C. Circuit's 2008 ruling that CAIR was “fatally flawed” and its resulting status as a temporary measure following that ruling, the EPA could not fully approve Regional Haze SIPs to the extent that they relied on CAIR to satisfy the EGU BART requirement. On these grounds, the EPA published in the Federal Register a limited disapproval of Iowa's Regional Haze SIP on June 7, 2012, and promulgated a FIP relying on CSAPR rather than CAIR, pending Iowa's submission, and EPA approval of, a SIP revision that corrected the deficiency.⁷ The EPA finalized a limited approval of Iowa's Regional Haze SIP on June 26, 2012, as meeting the remaining applicable Regional Haze requirements set forth in the CAA and the RHR.⁸

⁷ See 77 FR 33642, 77 FR 33653-77 FR 336554 (June 7, 2012). EPA finalized limited disapprovals of fourteen states' regional haze SIP submissions that relied on CAIR in this action, including Iowa's.

⁸ See 77 FR 38006. (June 26, 2012)

In the June 7, 2012 limited disapproval action, the EPA also amended the RHR to provide that participation by a state's EGUs in a CSAPR trading program for a given pollutant—either a CSAPR Federal trading program implemented through a CSAPR FIP or an integrated CSAPR state trading program implemented through an approved CSAPR SIP revision—qualifies as a BART alternative for those EGUs for that pollutant.⁹ Since the EPA promulgated this amendment, numerous states covered by CSAPR have come to rely on the provision through either SIPs or FIPs.¹⁰ Iowa is currently relying on the FIP published in the Federal Register on June 7, 2012 to rely on CSAPR as a BART-alternative for the covered BART-eligible sources.

⁹ See 40 CFR 51.308(e)(4).

¹⁰ EPA has promulgated FIPs relying on CSAPR participation for BART purposes for Georgia, Indiana, Iowa, Kentucky, Michigan, Missouri, Ohio, Pennsylvania, South Carolina, Tennessee, Virginia, and West Virginia, 77 FR at 33654, and Nebraska, 77 FR 40150, 40151 (July 6, 2012). EPA has approved Minnesota's and Wisconsin's SIPs relying on CSAPR participation for BART purposes. See 77 FR 34801, 34806 (June 12, 2012) for Minnesota and 77 FR 46952, 46959 (August 7, 2012) for Wisconsin.

Numerous parties filed petitions for review of CSAPR in the D.C. Circuit, and on August 21, 2012, the court issued its ruling, vacating and remanding CSAPR to the EPA and ordering continued implementation of CAIR.¹¹ The D.C. Circuit's vacatur of CSAPR was reversed by the United States Supreme Court on April 29, 2014, and the case was remanded to the D.C. Circuit to resolve remaining issues in accordance with the high court's ruling.¹² On remand, the D.C. Circuit affirmed CSAPR in most respects, but invalidated without vacating some of the CSAPR budgets as to a number of states.¹³ The remanded budgets include the Phase 2 SO2 emissions budgets for Alabama, Georgia, South Carolina, and Texas and the Phase 2 ozone-season NOX budgets for eleven states. This litigation ultimately delayed implementation of CSAPR for three years, from January 1, 2012, when CSAPR's cap-and-trade programs were originally scheduled to replace the CAIR cap-and-trade programs, to January 1, 2015. Thus, the rule's Phase 2 budgets that were originally promulgated to begin on January 1, 2014, began on January 1, 2017.

¹¹ EME Homer City Generation, L.P. v. EPA, 696 F.3d 7, 38 (D.C. Cir. 2012).

¹² EPA v. EME Homer City Generation, L.P., 134 S. Ct. 1584 (2014).

¹³ EME Homer City Generation, L.P. v. EPA, 795 F.3d 118 (D.C. Cir. 2015).

Recognizing that changes to the scope of CSAPR's coverage could potentially affect its 2012 determination that CSAPR is “better than BART,” on November 10, 2016,¹⁴ the EPA published in the Federal Register a notice of proposed rulemaking (NPRM) explaining the Agency's belief that the potentially material changes to the scope of CSAPR coverage resulting from the D.C. Circuit's remand would not have altered EPA's 2012 conclusion that CSAPR is “better-than-BART,” that is, that participation in CSAPR remains available as an alternative to BART for EGUs covered by the trading programs on a pollutant-specific basis. On September 21, 2017, the Administrator signed the final action, “Interstate Transport of Fine Particulate Matter: Revision of Federal Implementation Plan Requirements for Texas.” ¹⁵ In this action, the agency removed Texas from the CSAPR annual NOX and SO2 trading programs and affirmed the continued validity of the Agency's 2012 determination that participation in CSAPR meets the Regional Haze Rule's criteria for an alternative to the application of source-specific BART.

¹⁴ See 81 FR 78954 (November 10, 2016)

¹⁵ Legal challenges to this rule are pending. Nat'l Parks Conservation Ass'n v. EPA, No. 17-1253 (D.C. Cir. filed November 28, 2017).

On May 14, 2019, the State of Iowa submitted request to revise its Regional Haze SIP to rely on its participation in the CSAPR annual trading programs for NOX and SO2 to satisfy the requirements of 40 CFR 51.308(d)(3) and 51.308(e) with respect to emissions of NOX and SO2 from electric generating units, pursuant to the option provided in 40 CFR 51.308(e)(4) (the “CSAPR-better-than-BART” provision).

We are proposing to approve Iowa's submission as satisfying the SO2 and NOX requirements in 40 CFR 51.308(d)(3) and (e) for BART-eligible EGUs subject to the CSAPR SO2 trading program and the annual CSAPR NOX trading program. We are also proposing to convert the limited approval/limited disapproval of Iowa's Regional Haze plan to a full approval. Finally, the EPA is proposing to withdraw the FIP relying on CSAPR as a BART-alternative for these sources.

B. Infrastructure SIPs

By statute, SIPs meeting the requirements of sections 110(a)(1) and (2) of the CAA are to be submitted by states within three years (or less, if the Administrator so prescribes) after promulgation of a new or revised NAAQS to provide for the implementation, maintenance, and enforcement of the new or revised NAAQS. The EPA has historically referred to these SIP submissions, which are made for satisfying the requirements of sections 110(a)(1) and 110(a)(2), as “infrastructure SIP” submissions. Sections 110(a)(1) and (2) require states to address basic SIP elements such as for monitoring, basic program requirements, and legal authority that are designed to assure attainment and maintenance of the newly established or revised NAAQS. More specifically, section 110(a)(1) provides the procedural and timing requirements for infrastructure SIPs. Section 110(a)(2) lists specific elements that states must meet for the infrastructure SIP requirements related to a newly established or revised NAAQS. The contents of an infrastructure SIP submission may vary depending upon the specific NAAQS in question, as well as the provisions already contained in the state's implementation plan at the time at which the state develops and submits the submission for a new or revised NAAQS.

Section 110(a)(2)(D)(i) includes four distinct components, commonly referred to as “prongs,” that must be addressed in infrastructure SIP submissions. The first two prongs, which are codified in section 110(a)(2)(D)(i)(I), are provisions that prohibit any source or other type of emissions activity in one state from contributing significantly to nonattainment of the NAAQS in another state (prong 1) and from interfering with maintenance of the NAAQS in another state (prong 2). The third and fourth prongs, which are codified in section 110(a)(2)(D)(i)(II), are provisions that prohibit emissions activity in one state from interfering with measures required to prevent significant deterioration of air quality in another state (prong 3) or from interfering with measures to protect visibility in another state (prong 4).

Through this action, the EPA is proposing to approve the prong 4 portion of Iowa's infrastructure SIP submissions for the 2006 PM2.5, 2012 PM2.5, 2010 1-hour NO2, 2010 1-hour SO2, 2008 Ozone, and 2015 Ozone NAAQS. All other applicable infrastructure SIP requirements for these SIP submissions have been or will be addressed in separate rulemakings. A brief background regarding the NAAQS relevant to this proposal is provided below. For comprehensive information on these NAAQS, please refer to the Federal Register notices cited in the following subsections.

1. 2006 PM2.5 NAAQS

On October 17, 2006, the EPA revised the 24 hour primary PM2.5 NAAQS to 35 micrograms per cubic meter (μg/m³).¹⁶ States were required to submit infrastructure SIP submissions for the 2006 PM2.5 NAAQS to the EPA no later than September 21, 2009. Iowa submitted an infrastructure SIP submission for the 2006 PM2.5 NAAQS on July 29, 2013. This proposed action only addresses the prong 4 element of that submission.

¹⁶ See 71 FR 200 (October 17, 2006).

2. 2012 PM2.5 NAAQS

On December 14, 2012, the EPA revised the annual primary PM2.5 NAAQS to 12 micrograms per cubic meter (μg/m³).¹⁷ States were required to submit infrastructure SIP submissions for the 2012 PM2.5 NAAQS to the EPA no later than December 14, 2015. Iowa submitted an infrastructure SIP submission for the 2012 PM2.5 NAAQS on December 22, 2015. This proposed action only addresses the prong 4 element of that submission.

¹⁷ See 78 FR 3086 (January 15, 2013).

3. 2010 1-Hour SO2 NAAQS

On June 2, 2010, the EPA revised the 1-hour primary SO2 NAAQS to an hourly standard of 75 parts per billion (ppb) based on a 3-year average of the annual 99th percentile of 1-hour daily maximum concentrations.¹⁸ States were required to submit infrastructure SIP submissions for the 2010 1-hour SO2 NAAQS to the EPA no later than June 2, 2013. Iowa submitted an infrastructure SIP submission for the 2010 1-hour SO2 NAAQS on July 28, 2013. This proposed action only addresses the prong 4 element of that submission.

¹⁸ See 75 FR 35520 (June 22, 2010).

4. 2010 1-Hour NO2 NAAQS

On January 22, 2010, the EPA promulgated a new 1-hour primary NAAQS for NO2 at a level of 100 ppb, based on a 3-year average of the 98th percentile of the yearly distribution of 1-hour daily maximum concentrations.¹⁹ States were required to submit infrastructure SIP submissions for the 2010 1-hour NO2 NAAQS to the EPA no later than January 22, 2013. Iowa submitted infrastructure SIP submissions for the 2010 1-hour NO2 NAAQS on July 29, 2013. This proposed action only addresses the prong 4 element of those submissions.

¹⁹ See 75 FR 6474 (February 9, 2010).

5. 2008 8-Hour Ozone NAAQS

On March 12, 2008, the EPA revised the 8-hour Ozone NAAQS to 0.075 parts per million.²⁰ States were required to submit infrastructure SIP submissions for the 2008 8-hour Ozone NAAQS to the EPA no later than March 12, 2011. Iowa submitted an infrastructure SIP for the 2008 8-hour Ozone NAAQS on January 17, 2013. This proposed action only addresses the prong 4 element of that submission.

²⁰ See 73 FR 16436 (March 27, 2008).

6. 2015 8-Hour Ozone NAAQS

On October 1, 2015, the EPA revised the 8-hour Ozone NAAQS to 0.070 parts per million.²¹ States were required to submit infrastructure SIP submissions for the 2015 8-hour Ozone NAAQS to the EPA no later than October 1, 2018. Iowa submitted an infrastructure SIP for the 2015 8-hour Ozone NAAQS on November 30, 2018. This proposed action only addresses the prong 4 element of that submission.

²¹ See 80 FR 65292 (October 26, 2015).

C. What are the prong 4 requirements?

The prong 4 requirement of CAA section 110(a)(2)(D)(i)(II) requires a state's implementation plan to contain provisions prohibiting any source or other type of emissions activity within the State from emitting any air pollutant in amounts which will interfere with measures required to be included in the applicable implementation plan for any other State under part C of this subchapter to protect visibility (which includes sections 169A and 169B). On September 13, 2013, the EPA issued Guidance on the Infrastructure State Implementation Plan (SIP) Elements Under Clean Air Act Sections 110(a)(1) and 110(a)(2) (“2013 Guidance”).²² The EPA developed this document to provide states with guidance for infrastructure SIPs for any new or revised NAAQS. The 2013 Guidance states that the prong 4 requirement may be satisfied by an approved SIP provision that the EPA has found to adequately address contribution of that state's sources that impacts the visibility program requirements in other states. The 2013 Guidance also states that the EPA interprets this prong to be pollutant-specific, such that the infrastructure SIP submission need only address the potential for interference with protection of visibility caused by the pollutant (including precursors) to which the new or revised NAAQS applies.

²² “Guidance on the Infrastructure State Implementation Plan (SIP) Elements Under Clean Air Act Sections 110(a)(1) and 110(a)(2)”; Memorandum from Stephen D. Page, September 13, 2013.

The 2013 Guidance lays out how a state's infrastructure SIP may satisfy prong 4. One way that a state can meet the requirements is via confirmation in its infrastructure SIP submission that the state has an approved Regional Haze SIP that fully meets the requirements of 40 CFR 51.308 or 51.309. 40 CFR 51.308 and 51.309 specifically require that a state participating in a regional planning process include all measures needed to achieve its apportionment of emission reduction obligations agreed upon through that process. A fully approved Regional Haze SIP will ensure that emissions from sources under an air agency's jurisdiction are not interfering with measures required to be included in other air agencies' plans to protect visibility.

D. What is the EPA's analysis of how Iowa addressed prong 4 and regional haze?

Each of Iowa's infrastructure SIP submittals (2008 8-hour Ozone, 2015 8-hour Ozone, 2010 1-hour NO2, 2010 1-hour SO2, 2006 24-hour PM2.5, and 2012 annual PM2.5) relied on the State having a fully approved Regional Haze SIP to satisfy its prong 4 requirements. However, at the time of those submittals, the EPA had not fully approved Iowa's Regional Haze SIP, as the Agency issued a limited disapproval of the State's original Regional Haze plan on June 7, 2012. As detailed earlier in this proposed action, the EPA is proposing to convert EPA's limited approval/limited disapproval of Iowa's Regional Haze plan to a full approval because final approval of Iowa's SIP revision relying on CSAPR pursuant to 40 CFR 51.308(e)(4) would correct the deficiencies that led to EPA's limited approval/limited disapproval of the State's Regional Haze SIP. With this proposed action, the EPA would then fully approve Iowa's Regional Haze SIP for the first planning period. Because a state may satisfy prong 4 requirements through a fully approved Regional Haze SIP, the EPA is therefore also proposing to approve the prong 4 portion of Iowa's 2010 1-hour NO2, 2010 1-hour SO2, 2006 24-hour PM2.5, 2012 annual PM2.5, 2008 8-hour Ozone, and 2015 8-hour Ozone infrastructure SIP submissions.

III. Have the requirements for approval of a SIP revision been met?

The state submission has met the public notice requirements for SIP submissions in accordance with 40 CFR 51.102. The submission also satisfied the completeness criteria of 40 CFR part 51, appendix V. The state provided the Federal Land Managers the draft rule on Febuarary 28, 2019, providing until April 28, 2019, to receive comments and received no comments. The state provided public notice of this SIP revision on March 29, 2019, providing until April 29, 2019 to receive comments and received no comments. The state held a public hearing on April 29, 2019 and received no comments. In addition, as explained above, the revision meets the substantive SIP requirements of the CAA, including section 110 and implementing regulations.

IV. What action is the the EPA taking?

The EPA is proposing to take the following actions: approve Iowa's SIP submittal relying on CSAPR for certain Regional Haze requirements in accordance with the CAA and the Regional Haze Rule (40 CFR 51.308(e)(4)); withdraw the FIP relying on CSAPR to satisfy those requirements; fully approve Iowa's Regional Haze SIP for the first planning period; and approve the prong 4 portions for each of the six NAAQS identified above. We are soliciting comments on this proposed action. Final rulemaking will occur after consideration of any comments.

V. Statutory and Executive Order Reviews

Under the CAA, the Administrator is required to approve a SIP submission that complies with the provisions of the Act and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a significant regulatory action subject to review by the Office of Management and Budget under Executive Orders 12866 (58 FR 51735, October 4, 1993) and 13563 (76 FR 3821, January 21, 2011);

• Is not an Executive Order 13771 (82 FR 9339, February 2, 2017) regulatory action because SIP approvals are exempted under Executive Order 12866.

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

The SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

List of Subjects in 40 CFR Part 52

Environmental protection, Administrative practice and procedure, Air pollution control, Incorporation by reference, Intergovernmental relations, Nitrogen dioxide, Ozone, Particulate Matter, Reporting and recordkeeping requirements, Sulfur oxides.

Dated: August 13, 2019.
James B. Gulliford,
Regional Administrator, Region 7.

For the reasons stated in the preamble, the EPA proposes to amend 40 CFR part 52 as set forth below:

PART 52—APPROVAL AND PROMULGATION OF IMPLEMENTATION PLANS

1. The authority citation for part 52 continues to read as follows:

Authority: 42 U.S.C. 7401 et seq.

Subpart Q—Iowa

2. In § 52.820, the table in paragraph (e) is amended by adding the entry “(51)” in numerical order to read as follows:

§ 52.820 Identification of plan.

* * * * *

(e) * * *

EPA-Approved Iowa Nonregulatory Provisions
Name of nonregulatory SIP revision | Applicable geographic or nonattainment area | State submittal date | EPA Approval date | Explanation
| * * * * * * *
(51) Sections 110(a)(2) Infrastructure Prong 4 Requirements for the 2006 Fine Particulate Matter, 2012 Fine Particulate Matter, 2010 Nitrogen Dioxide, 2010 Sulfur Dioxide, 2008 Ozone, and 2015 Ozone NAAQS | Statewide | 1/17/2013; 7/28/2013; 7/29/2013; 7/29/2013; 12/22/2015; 11/30/2018; 5/14/2019 | [Date of publication of the final rule in the Federal Register], [Federal Register citation of the final rule] | This action approves the following CAA elements: 110(a)(2)(D)(i)(II)—prong 4. [EPA-R07-OAR-2019-0468; FRL-9998-40-Region 7].

3. Revise § 52.842 to read as follows:

§ 52.842 Visibility protection.

The requirements of section 169A of the Clean Air Act are met because the Regional Haze plan submitted by Iowa on March 25, 2008 and supplemented on May 14, 2019, includes fully approvable measures for meeting the requirements of the Regional Haze Rule including 40 CFR 51.308(d)(3) and 51.308(e) with respect to emissions of NOX and SO2 from electric generating units.

[FR Doc. 2019-18137 Filed 8-21-19; 8:45 am]

BILLING CODE 6560-50-P